DEPARTMENT OF COMMERCE

Foreign-Trade Zones Board

[Order No. 1878]

Reorganization of Foreign-Trade Zone 70 Under Alternative Site Framework, Detroit, MI

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the Greater Detroit Foreign-Trade Zone, Inc., grantee of Foreign-Trade Zone 70, submitted an application to the Board (FTZ Docket B-46-2012, docketed 6/20/2012) for authority to reorganize under the ASF with a service area of Macomb, Monroe, Oakland, Washtenaw and Wayne Counties, Michigan, in and adjacent to the Detroit Customs and Border Protection port of entry, FTZ 70's existing 3, 5, 12, 14 and 19 would be categorized as magnet sites, existing Sites 2, 4, 6, 8-11, 13, 15, 17, 18, 20-26, 29-31, 33-42 and 49-51 would be categorized as usage-driven sites, Site 15A would be removed, parcels from Site 5 would be renumbered as Sites 43 and 44, parcels from Site 11 would be renumbered as Sites 45 and 46 and parcels from Site 14 would be renumbered as Sites 47 and 48;

Whereas, notice inviting public comment was given in the Federal Register (77 FR 38037-38038, 6/26/2012) and the application has been processed pursuant to the FTZ Act and the Board's regulations; and,

Whereas, the Board adopts the findings and recommendation of the examiner's report, and finds that the requirements of the FTZ Act and the Board's regulations are satisfied, and that the proposal is in the public interest;

Now, therefore, the Board hereby orders:

The application to reorganize FTZ 70 under the alternative site framework is approved, subject to the FTZ Act and the Board's regulations, including Section 400.13, to the Board's standard 2,000-acre activation limit for the zone, to five-year ASF sunset provisions for magnet sites that would terminate authority for Sites 3, 5, 12, 14 and 19 if not activated by January 31, 2018, and to three-year ASF sunset provisions for usage-driven sites that would terminate authority for Sites 2, 4, 6, 8-11, 13, 15, 17, 18, 20-26, and 29-31 and 33-51 if no foreign-status merchandise is admitted for a bona fide customs purpose by January 31, 2016.

Signed at Washington, DC, this 6th day of February 2013.
Paul Piquado,
Assistant Secretary of Commerce for Import Administration, Alternate Chairman, Foreign-Trade Zones Board.

Attest:

Andrew McGilvray,
Executive Secretary.

[FR Doc. 2013-03363 Filed 2-12-13; 8:45 am]

BILLING CODE P